DEPARTMENT OF ENERGY

Federal Energy Regulatory Commission

Combined Notice of Filings #1

Take notice that the Commission received the following electric corporate filings:

Docket Numbers: EC17-7-000.

Applicants: New Creek Wind LLC.

Description: Application under Section 203 of the Federal Power Act of New Creek Wind LLC.

Filed Date: 10/7/16.

Accession Number: 20161007-5222.

Comments Due: 5 p.m. ET 10/28/16.

Take notice that the Commission received the following electric rate filings:

Docket Numbers: ER10-2474-016; ER10-2475-016; ER10-2605-012; ER10-2611-018; ER10-3246-010; ER11-2044-020; ER11-3876-020; ER12-162-017; ER12-1626-009; ER12-922-004; ER13-1266-011; ER13-1267-008; ER13-1268-008; ER13-1269-008; ER13-1270-008; ER13-1271-008; ER13-1272-008; ER13-1273-008; ER13-1441-008; ER13-1442-008; ER13-520-008; ER13-521-008; ER15-2211-008; ER16-1258-001; ER16-438-003.

Applicants: PacifiCorp, Nevada Power Company, Sierra Pacific Power Company, Bishop Hill Energy II LLC, MidAmerican Energy Company, MidAmerican Energy Services, LLC, Cordova Energy Company LLC, Pinyon Pines Wind I, LLC, Pinyon Pines Wind II, LLC, Solar Star California XX, LLC, Solar Star California XIX, LLC, Topaz Solar, LLC, CalEnergy, LLC,CE Leathers Company, Del Ranch Company, Elmore Company, Fish Lake Power LLC, Salton Sea Power Generation Company, Salton Sea Power L.L.C., Vulcan/BN Geothermal Power Company, Saranac Power Partners, L.P., Yuma Cogeneration Associates, Marshall Wind Energy LLC, Grande Prairie Energy, LLC, Phillips 66 Company.

Description: Supplement to September 14, 2016 Notice of Change in Status of PacifiCorp, et al.

Filed Date: 10/7/16.

Accession Number: 20161007-5219.

Comments Due: 5 p.m. ET 10/28/16.

Docket Numbers: ER10-2739-013; ER13-1430-005; ER10-2743-008; ER13-1561-005; ER10-2755-011; ER16-1652-001; ER10-2751-008.

Applicants: LS Power Marketing, LLC, Arlington Valley Solar Energy II, LLC, Bluegrass Generation Company, L.L.C., Centinela Solar Energy, LLC, Las Vegas Power Company, LLC, LifeEnergy LLC, Renaissance Power, L.L.C.

Description: Supplement to June 30, 2016 Market Power Update for the Southwest Region of LS Southwest MBR Sellers.

Filed Date: 10/11/16.

Accession Number: 20161011-5233.

Comments Due: 5 p.m. ET 11/1/16.

Docket Numbers: ER16-1004-001.

Applicants: Roundtop Energy LLC.

Description: § 205(d) Rate Filing: 2016-10-11_SA 2865 Termination of ITCTransmission-Michigan Wind 3 E&P (J321) to be effective 10/26/2016.

Filed Date: 10/7/16.

Accession Number: 20161007-5181.

Comments Due: 5 p.m. ET 10/28/16.

Docket Numbers: ER16-1032-001.

Applicants: Beaver Dam Energy LLC.

Description: Compliance filing: Compliance Filing of Revised Rate Schedule No. 2 to be effective 6/1/2016.

Filed Date: 10/7/16.

Accession Number: 20161007-5191.

Comments Due: 5 p.m. ET 10/28/16.

Docket Numbers: ER16-2107-000; ER16-2108-000.

Applicants: Sundevil Power Holdings, LLC, Castleton Energy Services, LLC.

Description: Supplement to June 30, 2016 Castleton Energy Services, LLC and Sundevil Power Holdings, LLC Triennial Market Review.

Filed Date: 10/7/16.

Accession Number: 20161007-5225.

Comments Due: 5 p.m. ET 10/28/16.

Docket Numbers: ER16-2173-001.

Applicants: Midcontinent Independent System Operator, Inc.

Description: Compliance filing: 2016-10-11_SA 2927 Duke Indiana GIA (J453) Compliance to be effective 7/12/2016.

Filed Date: 10/11/16.

Accession Number: 20161011-5187.

Comments Due: 5 p.m. ET 11/1/16.

Docket Numbers: ER17-47-000.

Applicants: DifWind Farms LTD VI.

Description: Baseline eTariff Filing: MBR Application to be effective 12/7/2016.

Filed Date: 10/7/16.

Accession Number: 20161007-5192.

Comments Due: 5 p.m. ET 10/28/16.

Docket Numbers: ER17-48-000.

Applicants: Terra-Gen Mojave Windfarms, LLC.

Description: Baseline eTariff Filing: MBR Application to be effective 12/7/2016.

Filed Date: 10/7/16.

Accession Number: 20161007-5193.

Comments Due: 5 p.m. ET 10/28/16.

Docket Numbers: ER17-49-000.

Applicants: Public Service Company of Colorado.

Description: § 205(d) Rate Filing: PSCo—TSGT Yampa OM&R—403—0.0.0 to be effective 12/10/2016.

Filed Date: 10/11/16.

Accession Number: 20161011-5013.

Comments Due: 5 p.m. ET 11/1/16.

Docket Numbers: ER17-50-000.

Applicants: Southern California Edison Company.

Description: § 205(d) Rate Filing: True-Up SGIA Golden Springs Development Company, LLC to be effective 12/11/2016.

Filed Date: 10/11/16.

Accession Number: 20161011-5015.

Comments Due: 5 p.m. ET 11/1/16.

Docket Numbers: ER17-51-000.

Applicants: DTE Pontiac North, LLC.

Description: Tariff Cancellation: Cancel Tariff to be effective 10/12/2016.

Filed Date: 10/11/16.

Accession Number: 20161011-5071.

Comments Due: 5 p.m. ET 11/1/16.

Docket Numbers: ER17-52-000.

Applicants: PJM Interconnection, L.L.C.

Description: § 205(d) Rate Filing: Amendment to ISA No. 3059, Queue No. V3-036 re: assignment to Thermal Energy to be effective 8/23/2011.

Filed Date: 10/11/16.

Accession Number: 20161011-5146.

Comments Due: 5 p.m. ET 11/1/16.

Docket Numbers: ER17-53-000.

Applicants: Midcontinent Independent System Operator, Inc.

Description: § 205(d) Rate Filing: 2016-10-11_SA 2865 Termination of ITCTransmission-Michigan Wind 3 E&P (J321) to be effective 10/26/2016.

Filed Date: 10/11/16.

Accession Number: 20161011-5189.

Comments Due: 5 p.m. ET 11/1/16.

Docket Numbers: ER17-54-000.

Applicants: PacifiCorp.

Description: § 205(d) Rate Filing: EDF Trading MDUSA Rev 1 to be effective 10/4/2016.

Filed Date: 10/11/16.

Accession Number: 20161011-5204.

Comments Due: 5 p.m. ET 11/1/16.

Docket Numbers: ER17-55-000.

Applicants: South Carolina Electric & Gas Company.

Description: Compliance filing: Orders 827 and 828 (Attachment M and N) to be effective 10/14/2016.

Filed Date: 10/11/16.

Accession Number: 20161011-5236.

Comments Due: 5 p.m. ET 11/1/16.

Take notice that the Commission received the following public utility holding company filings:

Docket Numbers: PH17-1-000.

Applicants: PGGM Vermogensbeheer B.V.

Description: PGGM Vermogensbeheer B.V. submits FERC 65-B Waiver Notification.

Filed Date: 10/11/16.

Accession Number: 20161011-5218.

Comments Due: 5 p.m. ET 11/1/16.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2016.
Nathaniel J. Davis, Sr.,
Deputy Secretary.

[FR Doc. 2016-25151 Filed 10-17-16; 8:45 am]

BILLING CODE 6717-01-P